DEPARTMENT OF THE TREASURY

Notice of Availability; Data Collection Effort for E.O. 13985—Increasing Equity in Procurement Spending Barrier Assessment

AGENCY: Departmental Offices, Department of the Treasury.

ACTION: Notice of availability.

SUMMARY: This notice announces the availability of a voluntary survey relating to potential barriers that underserved communities and individuals may face in taking advantage of agency procurement and contracting opportunities.

ADDRESSES: The survey is available at https://survey.alchemer.com/s3/6659553/OSBDU-Data-Collection-Effort-for-E.O.-13985.

FOR FURTHER INFORMATION CONTACT: Melissa Jenkins, Office of Small and Disadvantaged Business Utilization (OSDBU), Department of the Treasury, by email at Melissa.Jenkins@Treasury.gov or by telephone: 202-622-8213.

SUPPLEMENTARY INFORMATION: The Department of the Treasury remains committed to ensuring maximum inclusion in the Department's federal procurement opportunities. In accordance with Executive Order 13985 of January 20, 2021 Section 5(b) “Potential barriers that underserved communities and individuals may face in taking advantage of agency procurement and contracting opportunities,” the U.S. Department of the Treasury, is inviting industry resource partners to provide input on what they observe to be barriers based on their experience for small disadvantaged businesses, service-disabled veteran owned small businesses, contractors in HUBZones, minority-owned businesses, and women-owned businesses through Departmental procurement opportunities. The link to the survey is found in the ADDRESSES section of this notice.

In accordance with the Paperwork Reduction Act of 1995 (5 U.S.C. 3501 et seq.), the survey has been reviewed and approved by the Office of Management and Budget and assigned control number 1505-0231. An agency may not conduct or sponsor and a person is not required to respond to a collection of information unless it displays a valid control number.

Melissa M. Jenkins,
U.S. Department of the Treasury, WOSB Program Manager/In-Reach & Outreach/Underserved Communities, Office of Small & Disadvantaged Business Utilization (OSDBU).

[FR Doc. 2022-00473 Filed 1-12-22; 8:45 am]

BILLING CODE 4810-AK-P